DEPARTMENT OF COMMERCE

National Oceanic and Atmospheric Administration

50 CFR Part 622

[Docket No. 110819519-1560-01]

RIN 0648-BB22

Fisheries of the Caribbean, Gulf of Mexico, and South Atlantic; Reef Fish Fishery of the Gulf of Mexico; Red Grouper Management Measures

AGENCY: National Marine Fisheries Service (NMFS), National Oceanic and Atmospheric Administration (NOAA), Commerce.

ACTION: Proposed rule; request for comments.

SUMMARY: NMFS proposes to implement management actions described in a regulatory amendment to the Fishery Management Plan for the Reef Fish Resources of the Gulf of Mexico (FMP) prepared by the Gulf of Mexico Fishery Management Council (Council). If implemented, this rule would increase the 2011 commercial quota for red grouper, and thereby increase the 2011 commercial quota for shallow-water grouper (SWG), set the commercial quota for red grouper and SWG from 2012 to 2015 and subsequent fishing years, and increase the red grouper bag limit to four fish within the current four-fish aggregate bag limit. The increase in the recreational bag limit will allow the recreational sector to harvest the increase in the recreational allocation established in the regulatory amendment. The intended effect of this proposed rule is to help prevent overfishing of red grouper while achieving optimum yield (OY) by increasing the red grouper harvest consistent with the findings of the recent rerun of the stock assessment for this species using updated information.

DATES: Written comments must be received on or before October 6, 2011.

ADDRESSES: You may submit comments on the proposed rule identified by “NOAA-NMFS-2011-0199” by any of the following methods:

• Electronic submissions: Submit electronic comments via the Federal e-Rulemaking Portal: http://www.regulations.gov. Follow the instructions for submitting comments.

• Mail: Peter Hood, Southeast Regional Office, NMFS, 263 13th Avenue South, St. Petersburg, FL 33701.

Instructions: All comments received are a part of the public record and will generally be posted to http://www.regulations.gov without change. All Personal Identifying Information (for example, name, address, etc.) voluntarily submitted by the commenter may be publicly accessible. Do not submit Confidential Business Information or otherwise sensitive or protected information.

To submit comments through the Federal e-Rulemaking Portal: http://www.regulations.gov, click on “submit a comment,” then enter “NOAA-NMFS-2011-0199” in the keyword search and click on “search.” To view posted comments during the comment period, enter “NOAA-NMFS-2011-0199” in the keyword search and click on “search.” NMFS will accept anonymous comments (enter N/A in the required field if you wish to remain anonymous). You may submit attachments to electronic comments in Microsoft Word, Excel, WordPerfect, or Adobe PDF file formats only.

Comments through means not specified in this rule will not be accepted.

Electronic copies of the regulatory amendment, which includes an environmental assessment and a regulatory impact review, may be obtained from the Southeast Regional Office Web Site at http://sero.nmfs.noaa.gov/sf/GrouperSnapperandReefFish.htm.

FOR FURTHER INFORMATION CONTACT: Peter Hood, Southeast Regional Office, NMFS, telephone: 727-824-5305, e-mail: Peter.Hood@noaa.gov.

SUPPLEMENTARY INFORMATION: The reef fish fishery of the Gulf of Mexico is managed under the FMP. The FMP was prepared by the Council and is implemented through regulations at 50 CFR part 622 under the authority of the Magnuson-Stevens Fishery Conservation and Management Act (Magnuson-Stevens Act), 16 U.S.C. 1801 et seq.

Background

The Magnuson-Stevens Act requires NMFS and regional fishery management councils to prevent overfishing and achieve, on a continuing basis, the OY from federally-managed fish stocks. These mandates are intended to ensure fishery resources are managed for the greatest overall benefit to the Nation, particularly with respect to providing food production and recreational opportunities, and protecting marine ecosystems. To further this goal, the Magnuson-Stevens Act requires fishery managers to end overfishing of stocks while achieving OY from the fishery, and to minimize bycatch and bycatch mortality to the extent practicable.

Status of Stock

Red grouper was declared overfished and placed under a rebuilding plan in 2004. A 2007 Southeast Data, Assessment, and Review (SEDAR) stock assessment determined that overfishing had ended and stock biomass had increased to near its OY spawning stock biomass. With this update in stock status, new regulations were implemented in 2009 (74 FR 17603, April 16, 2009) through Amendment 30B to the FMP, that increased the commercial red grouper quota from 5.31 million lb (2.41 million kg) to 5.75 million lb (2.61 million kg) and increased the red grouper bag limit from one fish to two fish (within the four-fish grouper aggregate bag limit).

The 2007 SEDAR red grouper assessment was updated in 2009. The assessment update indicated that the stock continues to be neither overfished nor undergoing overfishing. However, the assessment update indicated the stock had declined since 2005. A large part of the decline was attributed to an episodic mortality event in 2005 (most likely associated with red tide) that resulted in an approximate 20 percent mortality of the red grouper stock, in addition to mortalities resulting from fishing and other natural causes. As a result of the findings of the assessment update, the Council's Scientific and Statistical Committee (SSC) recommended an acceptable biological catch (ABC) level of 6.31 million lb (2.86 million kg). This amount is equal to 85 percent of the yield at FMSY (fishing mortality at maximum sustainable yield), which is expected to result in a less than 50-percent (15- to 45-percent) probability of overfishing. To reduce this probability of overfishing even further, the Council voted to set the total allowable catch (TAC) at the yield associated with FOY, which is consistent with the method used to set TAC in Amendment 30B to the FMP. Therefore, TAC was reduced through a 2010 regulatory amendment (75 FR 74656, December 1, 2010) from 7.57 million lb (3.43 million kg) to 5.68 million lb (2.58 million kg), which is the yield associated with FOY (fishing mortality at optimum yield). Fishing at FOY should allow the stock to recover to a biomass that can support harvesting at equilibrium OY levels.

The 2009 assessment update was rerun in late 2010 to incorporate new information on red grouper harvest. Specifically, the assessment used revised estimates of historical discards in the commercial sector based on newly available observer data from the years 2006-2008 and updated projections taking into account the reduction in the commercial size limit from 20 inches to 18 inches. Given these changes, the rerun resulted in a slightly improved estimate of the stock status for the last year of the assessment (2008) and indicated the TAC in the near term could be substantially increased. After reviewing the rerun of the assessment update, the SSC recommended that the overfishing limit for red grouper be set at 8.10 million lb (3.67 million kg) (the equilibrium yield at FMSY) and the ABC be set at 7.93 million lb (3.60 million kg) (the equilibrium yield at FOY).

At the request of the Council, NMFS ran a new projection in 2011 that incorporated revised 2010 landings. Actual landings from 2010 were lower than projected, likely due to new longline restrictions implemented through Amendment 31 to the FMP (75 FR 21512, April 26, 2010) and disruptions in the fishery associated with the Deepwater Horizon oil spill that occurred in April 2010. The yield streams from this rerun showed that TAC could be increased in 2011. Because many commercial red grouper fishermen will likely catch their IFQ allocation before the end of 2011, based on the current rate of harvest, the Council proposed the adoption of the revised yield stream to help alleviate market disruptions that might occur should most IFQ allocations be caught well before the end of the year.

Red Grouper Total Allowable Catch (TAC)

The current red grouper TAC of 5.68 million lb (3.43 million kg) was implemented in 2010 through a 2010 red grouper regulatory amendment (75 FR 74656, December 1, 2010). The TAC proposed for 2011 through the 2011 red grouper regulatory amendment is 6.88 million lb (3.12 million kg). Subsequent increases in TAC from 2012 to 2015 would be 7.07 million lb (3.21 million kg) for 2012, 7.27 million lb (3.30 million kg) for 2013, 7.41 (3.36 million kg) for 2014, and 7.52 million lb (3.41 million kg) for 2015 and subsequent fishing years.

Allocation

The recreational and commercial allocations for red grouper included in the 2011 red grouper regulatory amendment are proposed to remain consistent with those established in Amendment 30B to the FMP. Therefore, 76 percent of the TAC would be allocated to the commercial sector and 24 percent of the TAC would be allocated to the recreational sector.

Management Measures Contained in This Proposed Rule

Based on the current commercial and recreational allocations, the TAC would be implemented through this rule by increasing the commercial quota in 2011 for Gulf red grouper from 4.32 million lb (1.96 million kg) to 5.23 million lb (2.82 million kg). The rule would also set the commercial quotas for 2012 to 2015 at 5.37 million lb (2.37 million kg) for 2012, 5.53 million lb (2.44 million kg) for 2013, 5.63 million lb (2.51 million kg) for 2014, and 5.72 million lb (2.59 million kg) for 2015 and subsequent fishing years. However, these increases in the red grouper commercial quota are contingent on the TAC not being exceeded in the previous fishing year (regardless of which sector is responsible for any overage). The increase in the 2011 red grouper quota by 0.91 million lb (0.41 million kg) would, therefore, increase the 2011 combined SWG quota by 0.91 million lb (0.41 million kg) to 6.07 million lb (2.75 million kg). Increases in the red grouper quotas from 2012 to 2015 would increase the SWG quota to 6.21 million lb (2.82 million kg) for 2012, 6.37 million lb (2.89 million kg) for 2013, 6.47 million lb (2.93 million kg) for 2014, and 6.56 million lb (2.98 million kg) for 2015 and subsequent fishing years. Increases in the SWG quota would be contingent on the red grouper TAC or gag TAC not being exceeded in the previous fishing year.

The proposed increase in the TAC would also increase the recreational allocation. For 2011, the increase in the recreational allocation would be from 1.36 million lb (0.62 million kg) to 1.65 million lb (0.75 million kg). The recreational allocation for 2012 to 2015 would be 1.70 million lb (0.78 million kg) for 2012, 1.74 million lb (0.79 million kg) for 2013, 1.78 million lb (0.81 million kg) for 2014, and 1.80 million lb (0.82 million kg) for 2015 and subsequent fishing years. However, recreational management measures have held the annual recreational harvest to approximately 1 million lb (0.45 million kg) since 2006, well below the recreational allocation of the TAC. Therefore, relaxing the recreational management measures is warranted to allow the recreational sector to harvest its allocation.

Based on a bag limit analysis conducted for Amendment 30B to the FMP, the proposed bag limit increase from two to four fish could result in a 13.2 percent increase in recreational harvest. This increase is less than the proposed increase in the recreational allocation (approximately 18 percent), and so should not result in the recreational sector exceeding its catch target or annual catch limit, particularly for 2011. As stated elsewhere, there is a great deal of uncertainty in estimating increased catch levels. These estimates of catch levels for increased bag limits are uncertain because of a lack of recent catch data at higher bag limits. Consequently, it is not considered prudent to further relax restrictions and further increase harvest beyond the estimated 13.2 percent. Because accountability measures cannot currently be implemented through a framework action, the 2011 red grouper regulatory amendment does not contain revisions to the red grouper accountability measures; however, proposed measures in Amendment 32 to the FMP would add an accountability measure for the recreational sector for this bag limit increase. If the recreational ACL were exceeded, the proposed measure would reduce the bag limit in the subsequent year by one fish (with a two-fish bag limit as the lowest bag limit allowable under this accountability measure).

Classification

Pursuant to section 304(b)(1)(A) of the Magnuson-Stevens Act, the NMFS Assistant Administrator has determined that this proposed rule is consistent with the regulatory amendment, other provisions of the Magnuson-Stevens Act, and other applicable law, subject to further consideration after public comment.

This proposed rule has been determined to be not significant for purposes of Executive Order 12866.

The Chief Counsel for Regulation of the Department of Commerce certified to the Chief Counsel for Advocacy of the Small Business Administration that this rule, if adopted, would not have a significant economic impact on a substantial number of small entities. The factual basis for this determination is as follows.

The purposes of the regulatory amendment are to establish the red grouper total allowable catch, and thus the red grouper commercial quota and recreational allocation, and to set the red grouper recreational bag limit consistent with the goals and objectives of the Council's red grouper rebuilding plan and the mandates of the Magnuson-Stevens Act. The objective of this specific rule is to support rebuilding of the red grouper resource in the Gulf of Mexico and to allow harvest of that resource at optimum yield. The Magnuson-Stevens Act provides the statutory basis for this proposed rule. The management measures contained in this proposed rule are described in the preamble of this rule and are not repeated here.

This rule is expected to directly affect commercial fishing vessels whose owners possess commercial red grouper fishing quota shares. The Small Business Administration (SBA) has established size criteria for all major industry sectors in the U.S. including fish harvesters. A business involved in fish harvesting is classified as a small business if it is independently owned and operated, is not dominant in its field of operation (including its affiliates), and has combined annual receipts not in excess of $4.0 million (NAICS code 114111, finfish fishing) for all its affiliated operations worldwide.

As of October 1, 2009, 970 entities owned a valid commercial Gulf reef fish permit and thus were eligible for initial shares and allocation in the grouper/tilefish IFQ program. Of these 970 entities, 908 entities initially received shares and allocation of grouper or tilefish in 2010. More importantly, with respect to the proposed action, 815 entities specifically received red grouper shares and an initial allocation of the commercial sector's red grouper quota in 2010. These 815 entities are expected to be directly affected by the action to increase the red grouper commercial quota.

Of the 815 entities that initially received red grouper shares, 191 were not commercially fishing in 2008 or 2009 and thus had no commercial fishing revenue during these years. On average, these 191 entities received an initial allocation of 6,459 lb (2,936 kg) of red grouper in 2010. Eight of these 191 entities also received a bottom longline endorsement in 2010. These 8 entities received a much higher initial allocation of red grouper in 2010, with an average of approximately 44,000 lb (20,000 kg). The other 624 entities that received red grouper shares and initial allocations in 2010 were active in commercial fisheries in 2008 or 2009. These 624 entities are expected to be most affected by the proposed action to increase the red grouper commercial quota.

Of the 624 commercial fishing vessels with commercial landings in 2008 or 2009, 126 vessels did not have any red grouper landings in 2008 or 2009. Their average annual gross revenue in these 2 years was approximately $55,800 (2008 dollars). The vast majority of these vessels' commercial fishing revenue is from a combination of landings of snapper, mackerel, dolphin, and wahoo. However, as described in the regulatory amendment, in 2009, they did become relatively more dependent on landings of highly migratory species (HMS) species and relatively less dependent on landings of deep-water grouper species. On average, in 2010, these vessels received an initial allocation of 2,524 lb (1,147 kg) of red grouper quota. Five of these vessels also received a bottom longline endorsement in 2010.

The remaining 498 commercially active fishing vessels did have landings of red grouper in 2008 or 2009. Their average annual gross revenue from commercial fishing was approximately $66,000 (2008 dollars) between the 2 years. On average, these vessels had 9,425 lb (4,284 kg) and 6,734 lb (3,061 kg) of red grouper landings in 2008 and 2009 respectively, or 8,053 lb (3,660 kg) between the 2 years. Red grouper landings accounted for approximately 35 percent of these vessels' annual average gross revenue, and thus they are relatively dependent on revenue from red grouper landings. These vessels' average initial red grouper allocation in 2010 was 8,404 lb (3,820 kg). Therefore, on average, their 2008 and 2009 red grouper landings are very near their 2010 red grouper allocation, though their red grouper landings differed considerably between 2008 and 2009.

Of these 498 vessels, 49 vessels also received a bottom longline endorsement in 2010. These particular vessels' average annual revenue was approximately $156,000 (2008 dollars) in 2008 and 2009. Revenue from red grouper landings decreased from approximately $104,000 to $65,000 in 2009. Nonetheless, these vessels remain highly dependent on revenue from red grouper landings, which averaged approximately 36,000 lb (13,364 kg) in 2008 and 23,000 lb (10,455 kg) in 2009. Their average initial 2010 allocation of red grouper was approximately 42,000 lb (19,091 kg), and thus their recent years' harvests have been within that 2010 average allocation, particularly in 2009.

The maximum annual commercial fishing revenue in 2008 or 2009 by an individual vessel whose owner possessed red grouper fishing quota shares was approximately $606,000 (2008 dollars). Based on this figure, all commercial fishing vessels expected to be directly affected by this rule are determined for the purpose of this analysis to be small business entities.

As a result of the expected increase in commercial red grouper harvests due to the increase in the commercial red grouper quota, this rule would be expected to increase commercial ex-vessel revenue by approximately $2.76 million from 2011 through 2015, or approximately $551,268 annually, relative to the status quo. Thus, the expected annual increase in each affected entity's annual ex-vessel revenue is estimated to be approximately $676. As a result, no reduction in profits for a substantial number of small entities would be expected.

No duplicative, overlapping, or conflicting Federal rules have been identified. This proposed rule would not establish any new reporting, record-keeping, or other compliance requirements.

This rule would not be expected to significantly reduce the profits of any small entities. Because this rule, if implemented, is not expected to have significant economic impact on any small entities, an initial regulatory flexibility analysis is not required and none has been prepared.

List of Subjects in 50 CFR Part 622

Fisheries, Fishing, Puerto Rico, Reporting and recordkeeping requirements, Virgin Islands.

Dated: September 16, 2011.
Samuel D. Rauch, III,
Deputy Assistant Administrator for Regulatory Programs, National Marine Fisheries Service.

For the reasons set out in the preamble, 50 CFR part 622 is proposed to be amended as follows:

PART 622—FISHERIES OF THE CARIBBEAN, GULF, AND SOUTH ATLANTIC

1. The authority citation for part 622 continues to read as follows:

Authority: 16 U.S.C. 1801 et seq.

2. In § 622.39, the first sentence in paragraph (b)(1)(ii) is revised to read as follows:

§ 622.39 Bag and possession limits.

* * * * *

(b) * * *

(1) * * *

(ii) Groupers, combined, excluding goliath grouper and Nassau grouper—4 per person per day, but not to exceed 1 speckled hind or 1 warsaw grouper per vessel per day, or 2 gag per person per day. * * *

* * * * *

3. In § 622.42, two sentences are added after the first sentence in the introductory paragraph and paragraphs (a)(1)(iii)(A) and (C) are revised to read as follows:

§ 622.42 Quotas.

* * * * *

(a) * * * Annual quota increases are contingent on the total allowable catch for the applicable species not being exceeded in the previous fishing year. If the total allowable catch is exceeded in the previous fishing year, the RA will file a notification with the Office of the Federal Register to maintain the quota for the applicable species from the previous fishing year for following fishing years, unless the best scientific information available determines maintaining the quota from the previous year is unnecessary. * * *

(1) * * *

(iii) * * *

(A) SWG combined. (1) For fishing year 2011—6.07 million lb (2.75 million kg).

(2) For fishing year 2012—6.21 million lb (2.82 million kg).

(3) For fishing year 2013—6.37 million lb (2.89 million kg).

(4) For fishing year 2014—6.47 million lb (2.93 million kg).

(5) For fishing year 2015 and subsequent fishing years—6.56 million lb (2.98 million kg).

* * * * *

(C) Red grouper. (1) For fishing year 2011—5.23 million lb (2.82 million kg).

(2) For fishing year 2012—5.37 million lb (2.37 million kg).

(3) For fishing year 2013—5.53 million lb (2.44 million kg).

(4) For fishing year 2014—5.63 million lb (2.51 million kg).

(5) For fishing year 2015 and subsequent fishing years—5.72 million lb (2.59 million kg).

* * * * *

[FR Doc. 2011-24251 Filed 9-20-11; 8:45 am]

BILLING CODE 3510-22-P